ENVIRONMENTAL PROTECTION AGENCY

[FRL-7175-6]

Metro Container Corporation Site; CERCLA 122(h) Administrative Settlement; Notice of Proposed Administrative Cost Recovery Settlement Pursuant to Section 122(h) of the Comprehensive Environmental Response, Compensation, and Liability Act of 1980, as Amended

AGENCY: Environmental Protection Agency.

ACTION: Notice, request for public comment.

SUMMARY: In accordance with section 122(i) of the Comprehensive Environmental Response, Compensation, and Liability Act of 1980, as amended (“CERCLA”), 42 U.S.C. 9622(i), notice is hereby given of a proposed administrative cost recovery settlement under section 122(h)(1) of CERCLA, 42 U.S.C. 9622(h)(1), in connection with the Metro Container Corporation Site in Trainer, Delaware County, Pennsylvania. The proposed settlement is intended to resolve an EPA claim under section 107(a) of CERCLA, 42 U.S.C. 9607(a), against Arco Chemical Company; BP Oil Inc.; Mobil Oil Corporation; Sun Refining and Marketing Co., and E.I. de Pont de Nemours & Company (“Respondents”). The proposed administrative cost recovery settlement is part of a larger settlement finalized in 1989 under section 106(a) of CERCLA, 42 U.S.C. 9606(a), for work at the Site. The work has been completed. Under the cost recovery portion of the settlement, the Respondents will pay $223,074.53 to the Hazardous Substance Superfund.

For thirty (30) days following the date of publication of this notice, the Agency will receive written comments relating to the cost recovery settlement. The Agency will consider all comments received and may modify or withdraw its consent to the settlement if comments received disclose facts or considerations which indicate that the settlement is inappropriate, improper, or inadequate. The Agency's response to any comments received will be available for public inspection at the U.S. Environmental Protection Agency, Region III, 1650 Arch Street, Philadelphia, PA 19103. The settlement has been approved by the Attorney General, United States Department of Justice, or his designee.

DATES: Comments must be submitted on or before thirty (30) days from the date of publication of this Notice.

ADDRESSESS: The proposed cost recovery settlement and additional background information relating to the settlement are available for public inspection at the U.S. Environmental Protection Agency, Region III, 1650 Arch Street, Philadelphia, PA 19103. A copy of the proposed cost recovery settlement may be obtained from Lydia Guy, Regional Docket Clerk (3RC00), U.S. Environmental Protection Agency, Region III, 1650 Arch Street, Philadelphia, PA 19103 (215) 814-2489). Comments should reference the Metro Container Corporation Site and EPA Docket No. III-89-11DC and should be forwarded to Ms. Guy at the above address.

FOR FURTHER INFORMATION CONTACT: Andrew S. Goldman (3RC21), Senior Assistant Regional Counsel, U.S. Environmental Protection Agency, 1650 Arch Street, Philadelphia, PA 19103, (215) 814-2487.

Dated: April 17, 2002.
Judith Katz,
Acting Regional Administrator, U.S. Environmental Protection Agency, Region III.

[FR Doc. 02-10172 Filed 4-24-02; 8:45 am]

BILLING CODE 6560-50-P